FEDERAL RETIREMENT THRIFT INVESTMENT BOARD

5 CFR Part 1651

Aged Beneficiary Designation Forms

AGENCY: Federal Retirement Thrift Investment Board.

ACTION: Final rule; correcting amendments.

SUMMARY: The Federal Retirement Thrift Investment Board (Agency) published in the Federal Register of July 9, 2014, a document amending its regulations to provide that a beneficiary designation form is valid only if it is received by the TSP record-keeper not more than one year after the date of the participant's signature. This document corrects the authority citation and paragraph designations provided in the July 9, 2014 publication.

DATES: The correcting amendments are effective on July 31, 2014.

FOR FURTHER INFORMATION CONTACT: Laurissa Stokes at 202-942-1645.

SUPPLEMENTARY INFORMATION: The Agency published a document (FR Doc. 2014-16043) in the Federal Register of July 9, 2014, (79 FR 38747), amending its regulations to provide that a beneficiary designation form is valid only if it is received by the TSP record-keeper not more than one year after the date of the participant's signature. This document simply corrects the authority citation and paragraph designations provided in FR Doc. 2014-16043.

List of Subjects in 5 CFR Part 1651

Claims, Government employees, Pensions, Retirement.

For the reasons stated in the preamble, the Agency corrects 5 CFR chapter VI by making the following correcting amendments:

PART 1651—DEATH BENEFITS

1. The authority citation for part 1651 continues to read as follows:

Authority: 5 U.S.C. 8424(d), 8432d, 8432(j), 8433(e), 8435(c)(2), 8474(b)(5) and 8474(c)(1).

2. Amend § 1651.3 by:

a. Removing the word “and” at the end of paragraph (c)(7);

b. Removing the period at the end of paragraph (c)(8) and adding in its place “; and”; and

c. Adding paragraph (c)(9) to read as follows:

§ 1651.3 Designation of beneficiary.

* * * * *

(c)* * *

(9) Be received by the TSP record-keeper not more than 365 calendar days after the date of the participant's most recent signature.

* * * * *

Gregory T. Long,
Executive Director, Federal Retirement Thrift Investment Board.

[FR Doc. 2014-17905 Filed 7-30-14; 8:45 am]

BILLING CODE 6760-01-P